DEPARTMENT OF LABOR

Employment and Training Administration

[TA-W-51,230]

Vanguard EMS, Inc., a/k/a Viasystems Portland, Inc., Beaverton, Oregon; Notice of Affirmative Determination Regarding Application for Reconsideration

By letter of April 30, 2003, the State of Oregon requested administrative reconsideration of the Department of Labor's Notice of Negative Determination Regarding Eligibility to Apply for Worker Adjustment Assistance, applicable to workers of the subject firm. The denial notice was signed on April 16, 2003, and published in the Federal Register on May 1, 2003 (68 FR 23322).

The Department reviewed the request for reconsideration and will conduct further investigation to determine if the workers meet the eligibility requirement under Section 223 of the Trade Act.

Conclusion

After careful review of the application, I conclude that the claim is of sufficient weight to justify reconsideration of the Department of Labor's prior decision. The application is, therefore, granted.

Signed at Washington, DC, this 25th day of July, 2002.
Elliott S. Kushner,
Certifying Officer, Division of Trade Adjustment Assistance.

[FR Doc. 03-20102 Filed 8-6-03; 8:45 am]

BILLING CODE 4510-30-P